DEPARTMENT OF ENERGY

Federal Energy Regulatory Commission

[ Project No. 12629-000]

F & B Wood Corp.; Notice of Application Tendered for Filing With the Commission, Soliciting Additional Study Requests, Waiving Three Stage Consultation, and Establishing an Expedited Schedule for Relicensing and Deadline for Submission of Final Amendments

December 27, 2005.

Take notice that the following hydroelectric application has been filed with the Commission and is available for public inspection.

a. Type of Application: Exemption From Licensing.

b. Project No.: P-12629-000.

c. Date filed: December 7, 2005.

d. Applicant: F & B Wood Corp.

e. Name of Project: Corriveau Hydroelectric Project.

f. Location: On the Swift River, near the town of Mexico, Oxford County, Maine. This project does not occupy Federal lands.

g. Filed Pursuant to: Public Utilities Regulatory Policies Act of 1978, 16 U.S.C. 2705, 2708.

h. Applicant Contact: Mr. James D. Sysko, Small Hydro East, 524 Jim's Drive, Newry, Maine 04261. (207) 824-3244.

i. FERC Contact: Michael Spencer, michael.spencer@ferc.gov (202) 502-6093.

j. Cooperating Agencies: We are asking Federal, state, and local agencies and Indian tribes with jurisdiction and/or special expertise with respect to environmental issues to cooperate with us in the preparation of the environmental document. Agencies who would like to request cooperating status should follow the instructions for filing comments described in item k below.

k. Pursuant to Section 4.32(b)(7) of 18 CFR of the Commission's regulations, if any resource agency, Indian tribe, or person believes that an additional scientific study should be conducted in order to form a factual basis for complete analysis of the application on its merits, the resource agency, Indian tribe, or person must file a request for the study with the Commission no later than 60 days from the application filing date, and serve a copy of the request on the applicant.

l. Deadline for filing additional study requests and requests for cooperating agency status: February 6, 2006.

All documents (original and eight copies) should be filed with: Magalie R. Salas, Secretary, Federal Energy Regulatory Commission, 888 First Street, NE., Washington, DC 20426

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site (http://www.ferc.gov) under the “eFiling” link. After logging into the eFiling system, select “Comment on Filing” from the Filing Type Selection screen and continue with the filing process.”

m. The application is not ready for environmental analysis at this time.

n. Project Description: The Corriveau Hydroelectric Project consists of the following existing facilities: (1) The 150-foot-long by 9-foot-high dam; (2) a 2.0 acre reservoir, (3) a 125-foot-long intake canal; (4) a powerhouse containing three generating units with total installed generating capacity of 338 kilowatts (kW); and (5) appurtenant facilities. The restored project would have an average annual generation of 1,306,900 kilowatt-hours. The dam and existing project facilities are owned by the applicant.

o. A copy of the application is on file with the Commission and is available for public inspection. This filing may also be viewed on the Web at http://www.ferc.gov using the “eLibrary” link. Enter the docket number, excluding the last three digits in the docket number filed to access the documents. For assistance, please contact FERC Online Support at FERCOnlineSupport@ferc.gov or toll free at (866) 208-3676 or for TTY, contact (202) 502-8659. A copy is also available for inspection and reproduction at the address in item h above.

p. You may also register online at http://www.ferc.gov/docs-filing/esubscription.asp to be notified via e-mail of new filings and issuances related to this or other pending projects. For assistance, contact FERC Online Support.

q. With this notice, we are initiating consultation with the Maine State Historic Preservation Officer (SHPO), as required by section 106, National Historic Preservation Act, and the regulations of the Advisory Council on Historic Preservation, 36 CFR 800.4.

r. Procedural schedule and final amendments: We intend to waive the standard 3-stage consultation process (18 CFR 4.38). We also intend to substitute the pre-filing consultation that has occurred on this project for our standard National Environmental Policy Act scoping process. Commission staff proposes to issue a single environmental assessment rather than issue a draft and final EA. Staff intends to give at least 30 days for entities to comment on the EA, and will consider all comments received on the EA before final action is taken on the exemption application.

Final amendments to the application must be filed with the Commission no later than 30 days from the issuance date of the notice of ready for environmental analysis.

Magalie R. Salas,
Secretary.

[FR Doc. E5-8177 Filed 12-30-05; 8:45 am]

BILLING CODE 6717-01-P